DEPARTMENT OF TRANSPORTATION

Federal Aviation Administration

14 CFR Part 71

[Docket No. FAA-2008-0037; Airspace Docket No. 07-AWP-6]

Establishment of Low Altitude Area Navigation Routes (T-Routes); Sacramento and San Francisco, CA

AGENCY: Federal Aviation Administration (FAA), DOT.

ACTION: Final rule.

SUMMARY: This action establishes four low altitude Area Navigation (RNAV) T-routes, designated T-257, T-259, T-261 and T-263, in the Sacramento and San Francisco, CA, terminal areas. T-routes are low altitude Air Traffic Service (ATS) routes, based on RNAV, for use by aircraft having instrument flight rules (IFR)-approved Global Positioning System (GPS)/Global Navigation Satellite System (GNSS) equipment. The FAA is taking this action to enhance safety and improve the efficient use of the navigable airspace in the Sacramento and San Francisco, CA, terminal areas.

DATES: Effective Date: 0901 UTC, July 31, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On February 19, 2008, the FAA published in the Federal Register a notice of proposed rulemaking (NPRM) to establish four low altitude T-routes in the San Francisco terminal area (73 FR 9060). Interested parties were invited to participate in this rulemaking effort by submitting written comments on this proposal to the FAA. Three comments were received in response to the NPRM and are discussed below. With the exception of minor adjustments to the longitude position of the Very High Frequency Omnidirectional Range/Tactical Air Navigation (VORTACs) at Point Reyes, Sacramento, and Woodside, this amendment is the same as that proposed in the NPRM.

Analysis of Comments

The Aircraft Owners and Pilots Association supports the establishment of the low level area navigation routes. One commenter requested that T-259 be moved further south to avoid a heavily used VFR flight training area or the floor of the airway be raised to 6,500 feet for separation from the training area.

FAA Response: The proposed T-259 overlies the existing Risti Four Arrival route into San Francisco, which is heavily used daily. Operation in the Tracy practice area will continue. Currently, participants in the practice area contact the Northern California TRACON (NCT) when the practice area is being utilized. The exact location and altitudes are coordinated at that time. NCT avoids the area when routing IFR traffic and the current practice will continue.

Another commenter raised four questions concerning operations on the T-routes.

(1) Are there defined entry/exit points other than the end points of the routes?

FAA Response: These routes are available to Air Traffic Control (ATC) the same as other airways and the T-routes will be utilized in the same fashion.

(2) How would a pilot destined for Half Moon Bay (HAF) from the south describe their desire to leave T-257 at an appropriate point?

FAA Response: The T-routes, as described, are to be utilized by aircraft overflying the terminal area, not landing within it. An aircraft inbound to HAF from the south would not be assigned this route.

(3) Is it expected that a pilot from Watsonville (WVI) could file and receive a direct clearance to San Jose in order to join T-259?

FAA Response: T-259 is designed to facilitate Palo Alto and San Carlos departures through the Class B Terminal Area. The NCT does not plan to make this route available to WVI departures due to operations in and out of SJC.

(4) Will these routes be available in all wind conditions?

FAA Response: These routes will be available in all wind configurations. However, dynamic re-routes based on weather conditions is a tool always available to ATC.

The Rule

The FAA is amending to Title 14 Code of Federal Regulations (14 CFR) part 71 to establish four low altitude RNAV T-routes in the Sacramento and San Francisco, CA, terminal areas. The routes would be designated T-257, T-259, T-261 and T-263, and would be depicted on the appropriate IFR En Route Low Altitude charts. T-routes are low altitude RNAV ATS routes, similar to Very High Frequency Omnidirectional Range Federal airways, but based on GNSS navigation. RNAV-equipped aircraft capable of filing flight plan equipment suffix “G” may file for these routes.

The T-routes described in this notice are being established to enhance safety and to facilitate the more flexible and efficient use of the navigable airspace for en route IFR operations transitioning through and around the Sacramento and San Francisco, CA, terminal areas.

Low altitude RNAV T-routes are published in paragraph 6011 of FAA Order 7400.9R signed August 15, 2007, and effective September 15, 2007, which is incorporated by reference in 14 CFR 71.1. The low altitude RNAV T-routes listed in this document would be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV T-Routes at Sacramento and San Francisco, CA.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 6011 Contiguous United States Area Navigation Routes

* * * * *

T-257 Big Sur, CA (BSR) to Point Reyes (PYE) [New]
Big Sur, CA (BSR) | VORTAC | (Lat. 36°10′53″ N., long. 121°38′32″ W.)
ISIFU | WP | (Lat. 36°43′29″ N., long. 121°56′57″ W.)
SUTRO | WP | (Lat. 36°42′43″ N., long. 122°32′49″ W.)
Point Reyes, CA (PYE) | VORTAC | (Lat. 38°04′47″ N., long. 122°52′04″ W.)

* * * * *

T-259 San Jose, CA (SJC) to Sacramento, CA (SAC) [New]
San Jose, CA (SJC) | VOR/DME | (Lat. 37°22′29″ N., long. 121°56′41″ W.)
CEDES | WP | (Lat. 37°33′30″ N., long. 121°37′51″ W.)
MOVDD | WP | (Lat. 37°39′41″ N., long. 121°26′54″ W.)
Sacramento, CA (SAC) | VORTAC | (Lat. 38°26′37″ N., long. 121°33′06″ W.)

* * * * *

T-261 Woodside, CA (OSI) to ALTAM [New]
Woodside, CA (OSI) | VORTAC | (Lat. 37°23′33″ N., long. 122°16′53″ W.)
ALTAM | WP | (Lat. 37°48′44″ N., long. 121°44′50″ W.)

* * * * *

T-263 Sunol to Scaggs Island, CA (SGD) [New]
SUNOL | WP | (Lat. 37°36′20″ N., long. 121°48′37″ W.)
Scaggs Island, CA (SGD) | VORTAC | (Lat. 38°10′46″ N., long. 122°22′23″ W.)

* * * * *

Issued in Washington, DC, on May 19, 2008.
Stephen L. Rohring,
Acting Manager, Airspace and Rules Group.

[FR Doc. E8-11964 Filed 5-29-08; 8:45 am]

BILLING CODE 4910-13-P